DEPARTMENT OF JUSTICE

Office of Justice Programs

[OJP (OJP) Docket No. 1691]

Meeting of the Office of Justice Programs' Science Advisory Board

AGENCY: Office of Justice Programs (OJP), Justice.

ACTION: Notice of meeting; renewal of charter.

SUMMARY: This notice announces a forthcoming meeting of OJP's Science Advisory Board (“the Board”). General Function of the Board: The Board is chartered to provide OJP, a component of the Department of Justice, with valuable advice in the areas of science and statistics for the purpose of enhancing the overall impact and performance of its programs and activities in criminal and juvenile justice.

DATES: The meeting will take place on Thursday, August 6, 2015, from approximately 9 a.m. to 3 p.m., with a break for lunch at approximately 12:00 p.m. The meeting will resume on Friday, August 7, 2015, from 8:30 a.m. to 4:00 p.m., ET, with a break for lunch at approximately 12:30 p.m.

ADDRESSES: The meeting will take place in the Main Conference Room and the Executive Conference Room on the third floor of the Office of Justice Programs, 810 7th Street, Northwest, Washington, DC 20531.

FOR FURTHER INFORMATION CONTACT: Katherine Darke, Designated Federal Officer (DFO), Office of the Assistant Attorney General, Office of Justice Programs, 810 7th Street Northwest, Washington, DC 20531; Phone: (202) 616-7373 [Note: This is not a toll-free number]; Email: katherine.darke@usdoj.gov.

SUPPLEMENTARY INFORMATION: This meeting is being convened to brief the OJP Assistant Attorney General and the Board members on the progress of the subcommittees, discuss any recommendations they may have for consideration by the full Board, and brief the Board on various OJP-related projects and activities. The final agenda is subject to adjustment, but the meeting will likely include briefings of the subcommittees' activities and discussion of future Board actions and priorities. This meeting is open to the public. Members of the public who wish to attend this meeting must register with Katherine Darke at the above address at least seven (7) calendar days in advance of the meeting. Registrations will be accepted on a space available basis. Access to the meeting will not be allowed without registration. Persons interested in communicating with the Board should submit their written comments to the DFO, as the time available will not allow the public to directly address the Board at the meeting. Anyone requiring special accommodations should notify Ms. Darke at least seven (7) calendar days in advance of the meeting.

Renewal of Council Charter: In addition to notifying the public about the OJP Science Advisory Board meeting, this Federal Register Notice notifies the public that the Charter of the OJP Science Advisory Board has been renewed in accordance with the Federal Advisory Committee Act, Section 14(a)(1). The renewal Charter was signed by former U.S. Attorney General Eric Holder on April 15, 2015. One can obtain a copy of the renewal Charter by accessing the Coordinating Council's Web site at http://ojp.gov/sab.htm.

Katherine Darke,
Science Policy Advisor and SAB DFO, Office of the Assistant Attorney General, Office of Justice Programs.

[FR Doc. 2015-17886 Filed 7-21-15; 8:45 am]

BILLING CODE 4410-18-P